DEPARTMENT OF THE INTERIOR

Fish and Wildlife Service

[FWS-R4-R-2010-N022; 40136-1265-0000-S3]

Watercress Darter National Wildlife Refuge, Jefferson County, AL

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Watercress Darter National Wildlife Refuge (NWR) for public review and comment. In this Draft CCP/EA, we describe the alternative we propose to use to manage this refuge for the 15 years following approval of the final CCP.

DATES: To ensure consideration, we must receive your written comments by May 17, 2010.

ADDRESSES: You may obtain a copy of the Draft CCP/EA by writing to: Mr. Stephen A. Miller, Mountain Longleaf National Wildlife Refuge, P.O. Box 5087, Anniston, AL 36205; telephone: 256/848-6833. The Draft CCP/EA is available on compact disk or in hard copy. You may also access and download the document from the Service's Internet Web site: http://southeast.fws.gov/planning/under “Draft Documents.” Comments on the Draft CCP/EA may be submitted to the above address or via electronic mail to: stephen_a_miller@fws.gov.

FOR FURTHER INFORMATION CONTACT: Mr. Mike Dawson, Refuge Planner, Jackson, MS; 601/965-4903, extension 20.

SUPPLEMENTARY INFORMATION:

Introduction

With this notice, we continue the CCP process for Watercress Darter NWR. We started the process through a notice in the Federal Register on March 12, 2007 (72 FR 11048).

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

CCP Alternatives, Including Our Proposed Alternative

We developed three alternatives for managing the refuge and chose “Alternative C” as the proposed alternative. A full description of each alternative is in the Draft CCP/EA. We summarize each alternative below.

Alternative A—Current Management (No Action)

The current management of Watercress Darter NWR recognizes the importance of looking beyond the refuge boundary. We continue to seek partnerships with adjacent landowners to protect and enhance the habitat for the endangered watercress darter. Upland management emphasizes the maintenance and restoration of native vegetative communities. Environmental parameters are monitored, adding additional parameters as issues arise. We currently monitor long-term trends for exotic invasive species. Other institutions are sought to investigate topics in detail. Wildlife observation is incorporated in the current public use program. Some outreach avenues have been established at both the State and local level. Watercress Darter NWR is currently managed by the staff of the Mountain Longleaf NWR, which is located 90 miles to the north.

Alternative B—Refuge Focused Management

Under this alternative, we would focus on activities within the jurisdictional boundaries of Watercress Darter NWR. We would rely on interest groups to collect information on outside threats. We would emphasize protection of the endangered watercress darter, restoration of native communities, and the health of resident wildlife species. Environmental monitoring would demonstrate long-term trends, environmental changes, or the results of management practices on refuge lands. Research, management, protection, education, and public use would be conducted to maximize benefits to Watercress Darter NWR. Land acquisition would be emphasized on high-priority areas within the approved acquisition boundary. The staff needed to fully implement this alternative would include four positions to be shared with Cahaba River NWR.

Alternative C—Integrated Landscape Management (Proposed Alternative)

Threats to the refuge are becoming more prominent as development activities occur in the city of Bessemer, Alabama. Watercress Darter NWR is a small system that can be greatly compromised by activities a distance away from its boundary. Under Alternative C, we fully recognize the impact these activities may have on the integrity of the refuge. We would continue the activities as stated under Alternative A and extend beyond the immediate neighbors to address issues associated with the aquifer and spring recharge area, watershed, and biota exchange pathways. Extensive resource sharing and networking with other protected areas, State and local government agencies, non-governmental organizations, specialists, researchers, and private citizens would expand the knowledge base and develop cooperation among interest groups. Restoration of natural systems, native communities, and healthy environments would be emphasized, thus promoting regionally a high quality of life. Monitoring environmental parameters and flora and fauna would be incorporated into an integrated study to gain knowledge on the health of the refuge ecosystem. Education and outreach would be expanded, with an emphasis on cultural and historical resources including groundwater springs. An increase in staff would occur under this alternative in order to place greater emphasis on landscape management. Additional staff members needed to fully implement this alternative would include one position stationed at Watercress Darter NWR and four positions to be shared between Cahaba River NWR and Watercress Darter NWR.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority

This notice is published under the authority of the National Wildlife Refuge System Improvement Act of 1997, Public Law 105-57.

Dated: February 25, 2010.
Jeffrey M. Fleming,
Acting Regional Director.

[FR Doc. 2010-8720 Filed 4-15-10; 8:45 am]

BILLING CODE 4310-55-P